ENVIRONMENTAL PROTECTION AGENCY

[ER-FRL-9010-4]

Environmental Impacts Statements; Notice of Availability

Responsible Agency: Office of Federal Activities, General Information (202) 564-7146 or http://www.epa.gov/compliance/nepa/.

Weekly receipt of Environmental Impact Statements

Filed 07/22/2013 Through 07/26/2013

Pursuant to 40 CFR 1506.9.

Notice

Section 309(a) of the Clean Air Act requires that EPA make public its comments on EISs issued by other Federal agencies. EPA's comment letters on EISs are available at: http://www.epa.gov/compliance/nepa/eisdata.html.

EIS No. 20130226, Final EIS, USN, FL, Naval Air Station Key West Airfield Operations Review Period Ends: 09/03/2013, Contact: Greg Timoney 904-542-6866.

EIS No. 20130227, Draft EIS, NASA, CA, Proposed Demolition and Environmental Cleanup Activities at Santa Susana Field Laboratory, Comment Period Ends: 09/16/2013, Contact: Allen Elliott 256-544-0662.

EIS No. 20130228, Final EIS, USACE, CO, Chatfield Reservoir Storage Reallocation, Review Period Ends: 09/03/2013, Contact: Gwyn M. Jarrett 402-995-2717.

EIS No. 20130229, Final EIS, FAA, AK, Runway Safety Area Improvements Kodiak Airport, Review Period Ends: 09/03/2013, Contact: Leslie Grey 907-271-5453.

EIS No. 20130230, Draft EIS, NPS, NJ, Gateway National Recreation Area General Management Plan, Comment Period Ends: 10/02/2013 Contact: Suzanne McCarthy 718-354-4663.

Amended Notices

EIS No. 20130134, Draft EIS, FERC, CA, Drum-Spaulding Hydroelectric Project and Yuba-Bear Hydroelectric Project for Hydropower License, Comment Period Ends: 08/22/2013, Contact: Alan Mitchnick 202-502-6074. Revision to FR Notice Published 05/24/2013; Extending Comment Period from 07/23/2013 to 08/22/2013.

Dated: July 30, 2013.
Cliff Rader,
Director, NEPA Compliance Division, Office of Federal Activities.

[FR Doc. 2013-18697 Filed 8-1-13; 8:45 am]

BILLING CODE 6560-50-P